FEDERAL COMMUNICATIONS COMMISSION

[DA 05-2230]

Seventh Meeting of the Advisory Committee for the 2007 World Radiocommunication Conference (WRC-07 Advisory Committee)

AGENCY: Federal Communications Commission.

ACTION: Notice.

SUMMARY: In accordance with the Federal Advisory Committee Act, this notice advises interested persons that the seventh meeting of the WRC-07 Advisory Committee will be held on September 14, 2005, at the Federal Communications Commission. The purpose of the meeting is to continue preparations for the 2007 World Radiocommunication Conference. The Advisory Committee will consider any preliminary views and draft proposals introduced by the Advisory Committee's Informal Working Groups.

DATES: September 14, 2005; 11 a.m.-12 noon.

ADDRESSES: Federal Communications Commission, 445 12th Street, SW., Room TW-C305, Washington DC 20554.

FOR FURTHER INFORMATION CONTACT: Alexander Roytblat, FCC International Bureau, Strategic Analysis and Negotiations Division, at (202) 418-7501.

SUPPLEMENTARY INFORMATION: The Federal Communications Commission (FCC) established the WRC-07 Advisory Committee to provide advice, technical support and recommendations relating to the preparation of United States proposals and positions for the 2007 World Radiocommunication Conference (WRC-07).

In accordance with the Federal Advisory Committee Act, Public Law 92-463, as amended, this notice advises interested persons of the seventh meeting of the WRC-07 Advisory Committee. The WRC-07 Advisory Committee has an open membership. All interested parties are invited to participate in the Advisory Committee and to attend its meetings. The proposed agenda for the seventh meeting is as follows:

Agenda

Seventh Meeting of the WRC-07 Advisory Committee, Federal Communications Commission, 445 12th Street, SW., Room TW-C305, Washington, DC 20554.

September 14, 2005; 11 a.m.-12 noon.

1. Opening Remarks.

2. Approval of Agenda.

3. Approval of the Minutes of the Sixth Meeting.

4. Status of Preliminary Views and Draft Proposals.

5. NTIA Draft Preliminary Views and Proposals.

6. Informal Working Group Reports and Documents relating to:

a. Consensus Views and Issues Papers.

b. Draft Proposals.

7. Future Meetings.

8. Other Business.

Federal Communications Commission.
Don Abelson,
Chief, International Bureau.

[FR Doc. 05-15527 Filed 8-9-05; 8:45 am]

BILLING CODE 6712-01-P